DEPARTMENT OF TRANSPORTATION

Federal Aviation Administration

Seventy-Sixth Meeting, RTCA Special Committee 159: Global Positioning System (GPS)

AGENCY: Federal Aviation Administration (FAA), DOT.

ACTION: Notice of RTCA Special Committee 159 meeting.

SUMMARY: The FAA is issuing this notice to advise the public of a meeting of RTCA Special Committee 159: Global Positioning System (GPS).

DATES: The meeting will be held April 14-18, 2008 from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub.L. 92-463, 5 U.S.C., Appendix 2), notice is hereby given for a Special Committee 159 meeting. The plenary agenda will include:

April 14

• All Day, Working Group 2C, Inertial (GPS/Inertial), Macintosh-NBAA Room & Hilton ATA Room.

April 15

• All Day, Working Group 4, Precision Landing Guidance (GPS/LAAS), MacIntosh-NBAA Room & Hilton ATA Room.

April 16

• All Day, Working Group 2, Wide Area Augmentation System (GPS/WAAS), ARINC Room.

• All Day, Working Group 4, Precision Landing Guidance (GPSILAAS), MacIntosh-NBAA Room & Hilton ATA Room.

April 17

• All Day, Working Group 4, Precision Landing Guidance (GPS/LAAS), MacIntosh-NBAA Room & Hilton ATA Room Morning (9-12 p.m.) (tentative), WG-6, Interference (GPS Interference), Colson Board Room.

April 18

Plenary Session

• Chairman's Introductory Remarks.

• Approval of Summary of the Seventy-Fifth Meeting held January 25, 2008, 2007, RTCA Paper No. 071-081SC159-962.

• Review Working Group (WG) Progress and Identify Issues for Resolution.

○ GPS/3rd Civil Frequency (WG-1).

○ GPSIWASS (WG-2).

○ GPS/GLONASS (WG-2A).

○ GPS/Inertial (WG-2C).

○ GPS/Precision Landing Guidance and (WG-4).

○ GPS/Airport Surface Surveillance (WG-5).

○ GPS/Interference (WG-6).

○ GPS/Antennas (WG-7).

○ GPS/GRAS (WG-8).

• Ad Hoc Group—Report—Proposed Activity—GPS L1 Only MOPS.

• Review of EEJROCAE Activities.

• Assignment/Review of Future Work.

• Other Business.

• Date and Place of Next Meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 26, 2008.
Francisco Estrada C.,
RTCA Advisory Committee.

[FR Doc. E8-6928 Filed 4-3-08; 8:45 am]

BILLING CODE 4910-13-M